DEPARTMENT OF ENERGY

Federal Energy Regulatory Commission

[Docket No. CP09-68-000]

Texas Eastern Transmission, LP; Notice of Application

March 11, 2009.

Take notice that on February 27, 2009, Texas Eastern Transmission, LP (Texas Eastern) 5400 Westheimer Court, Houston, Texas 77056-5310, filed an application in Docket No. CP09-68-000, pursuant to section 7(c) and 7(b) of the Natural Gas Act (NGA) and part 157 of the Commission's regulations, requesting a certificate of public convenience and necessity to construct and operate facilities to expand the capacity of its system by 395,000 dekatherms per day (Dth) from a supply point in Clarington, Ohio and by 60,000 Dth per day from the Oakford storage facility in Westmoreland County, Pennsylvania (TEMAX and TIME III Projects, respectively) to a proposed interconnect with Transcontinental Gas Pipe Line Company, LLC in York County, Pennsylvania via a proposed lateral from Texas Eastern's system in Lancaster County, Pennsylvania (Marietta Extension).

Specifically, Texas Eastern proposes a net increase of 84,433 horsepower (hp) at its existing Holbrook, Uniontown, Chambersburg, and Heidlersburg Compressor Stations through the addition of new compressor units, and uprating of certain units at two of the stations and abandoning certain units at two of the stations. Texas Eastern also proposes to replace 25.9 miles of various diameter pipeline with 36-inch diameter pipeline, construct 9.6 miles of new 36-inch pipeline, and construct 26.5 miles of new 30-inch pipeline. Texas Eastern further proposes to uprate the maximum allowable operating pressure of its Lines 1 and 2 from 1,000 pounds per square inch gauge (psig) to 1,112 psig for 268 miles between its Uniontown and Marietta Compressor Stations (Capacity Restoration Project). The subject facilities will cost approximately $646.6 million and are located in Greene, Bedford, Franklin, Adams, Lancaster and York Counties, Pennsylvania. Texas Eastern requests authorization to charge individual initial incremental rates for TEMAX, TIME III, and Marietta Extension services.

Any questions regarding this application should be directed to Garth Johnson, General Manager for Rates and Certificates, Texas Eastern Transmission, LP, P.O. Box 1642, Houston, Texas 77251-1642, telephone no. (713) 627-5415, and FAX (713) 627-5947.

On July 25, 2008, the Commission staff granted Texas Eastern's request to utilize the FERC Pre-Filing Process and assigned Docket No. PF08-27-000 to staff activities involved in the TEMAX and TIME III Projects. Now as of the filing of Texas Eastern's application on February 27, 2009, the Pre-Filing Process for this project has ended. From this time forward, this proceeding will be conducted in Docket No. CP09-68-000, as noted in the caption of this Notice.

Pursuant to section 157.9 of the Commission's rules, 18 CFR 157.9, within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and State agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: April 1, 2009.

Kimberly D. Bose,
Secretary.

[FR Doc. E9-5771 Filed 3-17-09; 8:45 am]

BILLING CODE 6717-01-P